DEPARTMENT OF ENERGY

Federal Energy Regulatory Commission

[Docket No. ER99-4160-007, et al.]

Dynegy Power Marketing, Inc., et al.; Electric Rate and Corporate Filings

February 17, 2005.

The following filings have been made with the Commission. The filings are listed in ascending order within each docket classification.

1. Dynegy Power Marketing, Inc., Bluegrass Generation Company, L.L.C., Cabrillo Power I LLC, Cabrillo Power II LLC, Calcasieu Power, LLC, Dynegy Danskammer, L.L.C., Dynegy Midwest Generation, Inc., Dynegy Roseton, L.L.C., El Segundo Power, LLC, Heard County Power, L.L.C., Long Beach Generation, LLC, Renaissance Power, L.L.C., Riverside Generating Company, L.L.C., Rockingham Power, L.L.C., Rocky Road Power, LLC, Rolling Hills Generating, L.L.C.

[Docket No. ER99-4160-007, ER02-506-004, ER99-1115-006, ER99-1116-006, ER00-1049-004, ER01-140-003, ER00-1895-004, ER01-141-003, ER98-1127-006, ER01-943-003, ER98-1796-005, ER01-3109-004, ER01-1044-004, ER99-1567-003, ER99-2157-003, and ER02-553-003]

Take notice that on February 10, 2005, the subsidiaries of Dynegy Inc. with market-based rate authority (collectively, Dynegy), submitted an errata to the updated triennial market power analysis filed on February 7, 2005, in compliance with the orders authorizing Dynegy to sell energy, capacity and ancillary services at market-based rates.

Dynegy states that copies of the filing were served on parties.

Comment Date: 5 p.m. eastern Time on March 3, 2005.

2. Indianapolis Power & Light Company

[Docket No. ER00-1026-010]

Take notice that on February 8, 2005, Indianapolis Power & Light Company (IPL) submitted a supplement to its updated triennial market power analyses update previously filed in this proceeding.

IPL states that copies of the filing were served upon the parties designated on the official service list in this docket.

Comment Date: 5 p.m. eastern time on March 1, 2005.

3. Delta Energy Center, LLC

[Docket No. ER02-600-003]

Take notice that on February 14, 2005, Delta Energy Center, LLC submitted a triennial updated market power analysis.

Comment Date: 5 p.m. eastern time on March 7, 2005.

4. Midwest Independent Transmission System Operator, Inc., Public Utilities with Grandfathered Agreements in the Midwest ISO Region

[Docket Nos. ER04-691-024 and EL04-104-023]

Take notice that on February 11, 2005, the Organization of MISO States (OMS) submitted offers of proof regarding the Midwest ISO's data confidentiality proposal pursuant to the Commission's order issued September 30, 2004, in Docket Nos. ER04-691-003 and EL04-104-003. OMS also submitted a response to the September 30, 2004 order.

The OMS states that it has served a copy of this filing electronically on all Midwest ISO Members, Member representatives of Transmission Owners and non-Transmission Owners, the Midwest ISO Advisory Committee participants, as well as all state commissions in the region. In addition, the OMS states that the filing has been posted electronically on the OMS Web site at http://www.misostates.org under the heading “Filings to FERC” for other interested parties in this matter.

Comment Date: 5 p.m. eastern time on March 3, 2005.

5. Midwest Independent Transmission System Operator, Inc., Public Utilities with Grandfathered Agreements in the Midwest ISO Region

[Docket No. ER04-691-025 and EL04-104-024]

Take notice that on February 15, 2005, the Midwest Independent Transmission System Operator, Inc. (Midwest ISO) submitted a compliance filing pursuant to the Commission's August 6, 2004, order, Midwest Independent Transmission System, Inc., et al., 108 FERC ¶ 61,163 (2004). The Midwest ISO states that the filing contains the Midwest ISO's certification of the reliability and readiness of its systems for market implementation on April 1, 2005.

The Midwest ISO states that it has electronically served a copy of this filing on all Midwest ISO Members, Member representatives of Transmission Owners and Non-Transmission Owners, the Midwest ISO Advisory Committee participants, as well as all state commissions in the region. In addition, the Midwest ISO states that the filing has been posted electronically on the Midwest ISO's Web site at http://www.midwestiso.org under the heading “Filings to FERC” for other interested parties in this matter and that it will provide copies to any interested parties upon request.

Comment Date: 5 p.m. eastern time on February 25, 2005.

6. California Independent System Operator Corporation

Docket No. ER05-224-001

Take notice that on February 10, 2005, the California Independent System Operator Corporation (CAISO) filed a response to the deficiency letter issued January 11, 2005, requesting additional information regarding CAISO's November 16, 2004, filing in Docket No. ER05-224-000.

CAISO states that this filing has been served on Mirant, the California Public Utilities Commission, and the California Electricity Oversight Board.

Comment Date: 5 p.m. eastern time on March 3, 2005.

7. Virginia Electric and Power Company

[Docket No. ER05-256-001]

Take notice that on February 4, 2005, Virginia Electric and Power Company, doing business as Dominion Virginia Power, tendered for filing a revised generator interconnection and operating agreement between Dominion Virginia Power and CPV Cunningham Creek LLC (CPV) in compliance with Virginia Electric Power Company, 110 FERC ¶ 61,039 (2005).

Comment Date: 5 p.m. eastern time on March 10, 2005.

8. Pacific Gas and Electric Company

[Docket No. ER05-516-001]

Take notice that on February 9, 2005, Pacific Gas and Electric Company, (PG&E) submitted an amendment to its January 28, 2005, filing in Docket No. ER05-516-000 of two large facilities agreements and nine small facilities agreements executed by PG&E and the City and County of San Francisco.

Comment Date: 5 p.m. eastern time on March 2, 2005.

9. Avista Corporation

[Docket No. ER05-577-000]

Take notice that on February 15, 2004, Avista Corporation (Avista) tendered for filing revisions to its Open Access Transmission Tariff in compliance with Order No. 2003-B issued December 20, 2004, in Docket No. RM02-1-005, 109 FERC ¶ 61,287 (2004). Avista requests an effective date of January 19, 2005.

Avista states that copies of this filing were supplied to Avista's existing transmission customers.

Comment Date: 5 p.m. eastern time on March 8, 2005.

10. Sierra Pacific Resources Operating Companies

[Docket No. ER05-578-000]

Take notice that on February 15, 2005, the Nevada Power Company and Sierra Pacific Power Company filed amendments to the Sierra Pacific Resources Operating Companies Open Access Transmission Tariff in compliance with Order No. 2003-B issued December 20, 2004, in Docket No. RM02-1-005, 109 FERC ¶ 61,287 (2004).

Comment Date: 5 p.m. eastern time on March 8, 2005.

11. Midwest Independent Transmission System Operator, Inc.

[Docket No. ER05-579-000]

Take notice that on February 15, 2005, the Midwest Independent Transmission System Operator, Inc. (Midwest ISO) submitted Amendment No. 1 to a Generation-Transmission Interconnection Agreement among Wisconsin Electric Power Company, the Midwest ISO and American Transmission Company LLC.

Midwest ISO states that a copy of this filing was served on the parties to this Interconnection Agreement.

Comment Date: 5 p.m. eastern time on March 8, 2005.

12. North American Electric Reliability Council

[Docket No. ER05-580-000]

Take notice that on February 15, 2005, the North American Electric Reliability Council (NERC) tendered for filing a revised version of its Transmission Line Loading Relief (TLR) standards. NERC states that the TLR standards have been revised to reflect the NERC functional model and, therefore, NERC proposes to replace its currently effective TLR standards with the revised standards.

Comment Date: 5 p.m. eastern time on March 8, 2005.

13. Virginia Electric and Power Company

[Docket No. ER05-581-000]

Take notice that on February 15, 2005, Virginia Electric and Power Company, (Dominion Virginia Power), tendered for filing revised tariff sheets (revised sheets) modifying provisions in the large generator interconnection procedures and the large generator interconnection agreement contained in Attachment O to its Open Access Transmission Tariff, FERC Electric Tariff, Second Revised Volume No. 5 (OATT) in compliance with Order No. 2003-B issued December 20, 2004, in Docket No. RM02-1-005, 109 FERC ¶ 61,287 (2004). Dominion Virginia Power requests an effective date of April 16, 2005.

Dominion Virginia Power states that copies of the filing letter were served upon customers under Dominion Virginia Power's OATT, the Virginia State Corporation Commission and the North Carolina Utilities Commission.

Comment Date: 5 p.m. eastern time on March 8, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive mail notification when a document is added to a subscribed docket(s). For assistance with any FERC Online service, please mail FERCOnlineSupport@ferc.gov, or call (866) 208-3676 (toll free). For TTY, call (202) 502-8659.

Linda Mitry,
Deputy Secretary.

[FR Doc. E5-789 Filed 2-25-05; 8:45 am]

BILLING CODE 6717-01-P